DEPARTMENT OF THE INTERIOR

Bureau of Land Management

[WO-320-1330-PB-24 1A]

OMB Control Number 1004-0121; Information Collection Submitted to the Office of Management and Budget Under the Paperwork Reduction Act

The Bureau of Land Management (BLM) has sent a request to extend the current approved collection to the Office of Management and Budget (OMB) under the provisions of the Paperwork Reduction Act (44 U.S.C. 3501 et seq.). On July 30, 2002, the BLM published a notice in the Federal Register (67 FR 49371) requesting comment on this information collection. The comment period ended on September 30, 2002. BLM received no comments. You may obtain copies of the collection of information and related forms and explanatory material by contacting the BLM Information Collection Clearance Officer at the telephone number listed below.

The OMB must respond to this request within 60 days but may respond after 30 days. For maximum consideration your comments and suggestions on the requirement should be directed to the Office of Management and Budget, Interior Department Desk Officer (1004-0121), at OMB-OIRA via facsimile to (202) 395-5806 or e-mail to Ruth Solomon@omb.eop.gov. Please provide a copy of your comments to the Bureau Information Collection Clearance Officer (WO-630), Bureau of Land Management, Eastern States Office, 7450 Boston Blvd., Springfield, Virginia 22153.

Nature of comments: We specifically request your comments on the following:

1. Whether the collection of information is necessary for the proper functioning of the agency, including whether the information will have practical utility;

2. The accuracy of our estimates of the information collection burden, including the validity of the methodology and assumptions we use;

3. Ways to enhance the quality, utility and clarity of the information collected; and

4. Ways to minimize the information collection burden on those who are to respond, including the use of appropriate automated, electronic, mechanical, or other forms of information technology.

Title: Leasing of solid Minerals Other Than Coal and Oil Shale (43 CFR 3500—3590).

OMB Control Number: 1004-0121.

Bureau Form Numbers: 3504-1, 3504-3, 3504-4, 3510-1, 3510-2, 3520-7.

Abstract: We use the information to determine whether an applicant, permittee, or lessee is qualified to hold an interest under the terms of the implementing regulations at 43 CFR 3500.

Frequency: On occasion.

Description of Respondents: Entities seeking to lease and develop solid minerals other than coal or oil shale.

Estimated Completion Time:

Type of application | Number of responses | Hrs. per response | Total hours
Prospecting Permit | 22 | 1 | 22
Exploration Plan for Prospecting Permit | 19 | 80 | 1,520
Prospecting Permit Extension | 5 | 1 | 5
Preference Right Lease | 2 | 100 | 200
Competitive Lease Bid | 5 | 40 | 200
Fringe Acreage Lease or Lease Modification | 5 | 40 | 200
Assignment or Sublease | 38 | 2 | 76
Lease Renewals or Adjustments | 14 | 1 | 14
Use Permit | 1 | 1 | 1
Exploration License | 1 | 3 | 3
Exploration Plan for Exploration License | 1 | 80 | 80
Development Contract | 1 | 1 | 1
Bond | 145 | 4 | 580
Mine Plan5 | 150 | 750
Total | 264 |  | 3,652

Annual Responses: 264.

Application Fee Per Response: $25.

Annual Burden Hours: 3,652.

Bureau Clearance Officer: Michael Schwartz, (202) 452-5033.

Dated: April 14, 03.
Michael H. Schwartz,
Bureau of Land Management, Information Collection Clearance Officer.

[FR Doc. 03-15888 Filed 6-23-03; 8:45 am]

BILLING CODE 4310-84-M